ENVIRONMENTAL PROTECTION AGENCY

40 CFR Parts 80 and 86

[AMS-FRL-6516-2]

RIN 2060-AI23

Control of Air Pollution From New Motor Vehicles: Tier 2 Motor Vehicle Emissions Standards and Gasoline Sulfur Control Requirements

Correction

In rule document 00-19 beginning on page 6698 in the issue of Thursday, February 10, 2000, make the following corrections:

§80.195 [Corrected]

1. On page 6824, in §80.195(a)(1), in the first column, in the first line after “gasoline” add “sulfur standards for refiners and importers, excluding gasoline”.

§86.1811-04 [Corrected]

2. On page 6856, in §86.1811-04(c)(6), in Table S04-2, the “Notes” entry corresponding with “Bin No. 9” should read “a b e f h”.

[FR Doc. C0-19 Filed 2-25-00; 8:45 am]

BILLING CODE 1505-01-D

OFFICE OF GOVERNMENT ETHICS

5 CFR Part 2638

RIN 3209-AA07

Executive Agency Ethics Training Programs Regulation Amendments

Correction

In rule document 00-3346, beginning on page 7275, in the issue of Monday, February 14, 2000, make the following corrections:

1. On page 7276, in the second column, the table is corrected and set out in its entirety as follows:

Old section | New section
2638.701 (1st sentence) | Removed.
2638.701 (2nd sentence) | 2638.701.
2638.701 (3rd sentence) | 2638.702 (Employee definition).
2638.702 introductory text | Removed.
2638.702(a) | Removed.
2638.702(b)(1st sentence) | Removed.
2638.702(b)(2nd sentence) | 2638.704(d).
2638.702(c) | 2638.706.
2638.703 | 2638.703.
2638.704(a)-(b) | 2638.704(a); 2638.705(a).
2638.704(c) | 2638.704(b); 2638.705(b).
2638.704(d)(1) | 2638.704(c); 2638.705(c).
2638.704(d)(2)(i) | 2638.704(c).
2638.704(d)(2)(ii) (& Examples 1-3 to ¶ (d)(2)(ii)) | 2638.704(d) & Examples 1-3 to ¶ (d)).
2638.704(d)(2)(iii) (& Example 1 to ¶ (d)(2)(iii)(A)) | 2638.704(e) (& Example to ¶ (e)(1)).
2638.704(d)(3)(i) | 2638.705(c)(2).
2638.704(d)(3)(ii) | 2638.705(c)(1).
2638.704(d) (3)(iii) | 2638.705(d).
| 2638.702 (new, except for Employee definition).

PART 2638 [CORRECTED]

2. On page 7279, in the third column, amendatory instruction 2. should be moved and placed above the table of contents subpart heading.

[FR Doc. C0-3346 Filed 2- 25-00; 8:45 am]

BILLING CODE 1505-01-D

DEPARTMENT OF HEALTH AND HUMAN SERVICES

Food and Drug Administration

21 CFR Part 101

[Docket No. 00N-0506]

Safety Issues Associated With Dietary Supplement Use During Pregancy; Public Meeting

Correction

In proposed rule document 00-4276 beginning on page 9230 in the issue of Thursday, February 24, 2000, make the following correction:

On page 9230, in the second column, in the DATES section, in the second line, “April 24, 2000” should read “March 30, 2000”.

[FR Doc. C0-4276 Filed 2-25-00; 8:45 am]

BILLING CODE 1505-01-D